OFFICE OF THE UNITED STATES TRADE REPRESENTATIVE

Generalized System of Preferences (GSP): Notice Regarding a Hearing for Country Practice Reviews of Azerbaijan, Ecuador, Georgia, Indonesia, Kazakhstan, Thailand, South Africa, and Uzbekistan, and for the Country Designation Review of Laos

AGENCY: Office of the United States Trade Representative.

ACTION: Notice of public hearing and request for comments.

SUMMARY: The Office of the United States Trade Representative (USTR) is announcing a hearing for the GSP country practice reviews of Azerbaijan, Ecuador, Georgia, Indonesia, Kazakhstan, Thailand, South Africa, and Uzbekistan, and the country designation review of Laos. These reviews will focus on whether: (1) Azerbaijan, Georgia, Kazakhstan, and Uzbekistan are meeting the GSP eligibility criterion requiring that a GSP beneficiary country afford workers in that country internationally recognized worker rights; (2) Ecuador is meeting the GSP eligibility criterion requiring a GSP beneficiary country to act in good faith in recognizing as binding or in enforcing applicable arbitral awards; (3) Indonesia and South Africa are meeting the GSP eligibility criterion requiring adequate and effective protection of intellectual property rights; (4) Indonesia and Thailand are meeting the GSP eligibility criterion requiring a GSP beneficiary country to provide equitable and reasonable access to its markets and basic commodity resources; and (5) Laos meets all of the GSP eligibility criteria and should be newly designated as a GSP beneficiary country. This notice includes the schedule for submission of public comments and a public hearing.

DATES:

January 17, 2020 at 11:59 p.m. EST: Deadline for submission of comments, pre-hearing briefs, and requests to appear at the January 30, 2020, public hearing.

January 30, 2020: The GSP Subcommittee of the Trade Policy Staff Committee (TPSC) will convene a public hearing on the GSP country practice reviews of Azerbaijan, Ecuador, Georgia, Indonesia, Kazakhstan, Thailand, South Africa, and Uzbekistan, and the country designation review of Laos, in Rooms 1 and 2, 1724 F Street NW, Washington, DC 20508, beginning at 10:00 a.m.

February 28, 2020 at 11:59 p.m. EST: Deadline for submission of post-hearing briefs.

ADDRESSES: USTR strongly prefers electronic submissions made through the Federal Rulemaking Portal: https://www.regulations.gov, using the docket number for the appropriate country listed in sections B and C. All submission must be in English. Follow the instructions for submitting comments in sections D through F. For alternatives to on-line submissions, please contact Claudia Chlebek at 202-395-2974, or gsp@ustr.eop.gov.

FOR FURTHER INFORMATION CONTACT: Please contact Claudia Chlebek at 202-395-2974, or gsp@ustr.eop.gov.

SUPPLEMENTARY INFORMATION:

A. Background

The GSP program provides for the duty-free importation of designated articles when imported from designated beneficiary developing countries. The GSP program is authorized by Title V of the Trade Act of 1974 (19 U.S.C. 2461-2467), as amended, and is implemented in accordance with Executive Order 11888 of November 24, 1975, as modified by subsequent Executive Orders and Presidential Proclamations.

B. Ongoing Country Practice Reviews of Ecuador, Georgia, Indonesia, Kazakhstan, Thailand, and Uzbekistan, and the Ongoing Country Designation Review of Laos

The GSP Subcommittee of the TPSC will hold a hearing on January 30, 2020, for the following country practice reviews:

Country | Basis for petition | Petitioner | Docket No.
Ecuador | Arbitral Awards | Chevron Corporation | USTR-2013-0013
Georgia | Worker Rights | AFL-CIO | USTR-2013-0009
Indonesia | Intellectual Property Rights | International Intellectual Property Alliance (IIPA) | USTR-2013-0011
Indonesia | Market Access | USTR | USTR-2018-0007
Kazakhstan | Worker Rights | AFL-CIO | USTR-2013-0011
Laos | Eligibility | Laos | USTR-2013-0021
Thailand | Market Access | National Pork Producers Council | USTR-2018-0012
Uzbekistan | Worker Rights & Child Labor | ILRF | USTR-2013-0007

C. Initiation of Country Practice Reviews of Azerbaijan and South Africa

USTR will initiate the country practice reviews of Azerbaijan and South Africa. These country practice reviews are undertaken on the recommendation of the TPSC pursuant to 15 CFR 2007.0(f) to determine if the current laws and practices of Azerbaijan and South Africa meet the GSP eligibility criteria. These reviews are the result of country eligibility petitions submitted by interested stakeholders and an assessment of GSP beneficiary countries conducted by the GSP Subcommittee. The GSP Subcommittee of the TPSC will hold a hearing on January 30, 2020, for the following country practice reviews:

Country | Basis for petition | Petitioner | Docket No.
Azerbaijan | Worker Rights | USTR | USTR-2019-0021
South Africa | Intellectual Property Rights | IIPA | USTR-2019-0020

1. Azerbaijan Country Practice Review

The country practice review of Azerbaijan will focus on whether the country is meeting the GSP criterion requiring a GSP beneficiary country to take steps to afford workers in that country internationally recognized worker rights (19 U.S.C. 2462(c)(7)). The GSP Subcommittee has identified several potential concerns regarding Azerbaijan's compliance with the GSP worker rights criterion including, but not limited to, restrictions on freedom of association and a lack of effective enforcement mechanisms to protect worker rights. Among other concerns, worker organizations in Azerbaijan reportedly face government interference and severe restrictions on labor inspections limit the ability of workers to exercise internationally recognized worker rights.

2. South Africa Country Practice Review

The country practice review of South Africa will focus on whether the country is meeting the GSP criterion requiring a GSP beneficiary country to provide adequate and effective protection of intellectual property rights (19 U.S.C. 2462(c)(5)). USTR has accepted a petition filed by the International Intellectual Property Alliance (IIPA). The petition alleges that the Government of South Africa does not provide adequate and effective copyright protection for U.S. copyrighted works.

D. Notice of Public Hearing

The GSP Subcommittee will hold a hearing beginning at 10:00 a.m. on January 30, 2020, to receive information regarding the GSP country practice reviews of Azerbaijan, Ecuador, Georgia, Indonesia, Kazakhstan, Thailand, South Africa, and Uzbekistan, and the country designation review of Laos. The hearing will be held in Rooms 1 and 2, 1724 F Street NW, Washington, DC 20508, and will be open to the public and to the press. USTR will make a transcript of the hearing available on www.regulations.gov approximately two weeks after the hearing date.

USTR must receive your written requests to make an oral presentation at the hearing and pre-hearing briefs, statements, or comments by 11:59 p.m. EST on January 17, 2020. You must make the intent to testify notification in the “type comment” field under the docket number for the appropriate country listed in sections B and C above on the www.regulations.gov website and you should include the name, address, telephone number and email address, if available, of the person presenting the testimony. You must attach a written brief or summary statement in English by using the “upload file” field. The name of the file also should include who will be presenting the testimony. Remarks at the hearing will be limited to no more than five minutes to allow for questions from the Subcommittee. The GSP Subcommittee will accept post-hearing briefs or statements if they conform to the requirements set out below and are submitted in English, by 11:59 p.m. on February 28, 2020. You should submit all documents in accordance with the instructions in section E below. Parties not wishing to appear at the public hearing may submit pre-hearing and post-hearing briefs or comments by the relevant deadlines.

E. Requirements for Submissions

You must submit requests to testify, written comments, and pre-hearing and post-hearing briefs by the applicable deadlines set forth in this notice. You must make all submissions in English via http://www.regulations.gov, using the docket number for the appropriate country listed in sections B and C above. USTR will not accept hand-delivered submissions. To make a submission using http://www.regulations.gov, enter the appropriate docket number in the `search for' field on the home page and click `search.' The site will provide a search-results page listing all documents associated with this docket. Find a reference to this notice by selecting `notice' under `document type' in the `filter results by' section on the left side of the screen and click on the link entitled `comment now.' The regulations.gov website offers the option of providing comments by filling in a `type comment' field or by attaching a document using the `upload file(s)' field. The Subcommittee prefers that you provide submissions in an attached document and note `see attached' in the `type comment' field on the online submission form.

At the beginning of the submission, or on the first page (if an attachment) include the following text (in bold and underlined) (1) “[Insert Country] Country Practice Review”; (2) the subject matter; and (3) whether the document is a `written comment,' `notice of intent to testify,' `pre-hearing brief,' or `post-hearing brief.' Submissions should not exceed thirty single-spaced, standard letter-size pages in twelve-point type, including attachments. Include any data attachments to the submission in the same file as the submission itself, and not as separate files.

You will receive a tracking number upon completion of the submission procedure at http://www.regulations.gov. The tracking number is confirmation that regulations.gov received the submission. Keep the confirmation for your records. USTR is not able to provide technical assistance for the website. USTR may not consider documents you do not submit in accordance with these instructions. If you are unable to provide submissions as requested, please contact Claudia Chlebek at 202-395-2974, or gsp@ustr.eop.gov to arrange for an alternative method of transmission. General information concerning USTR is available at www.ustr.gov.

F. Business Confidential Submissions

If you ask USTR to treat information you submitted as business confidential information (BCI), you must certify that the information is business confidential and that you would not customarily release it to the public. You must clearly designate BCI by marking the submission “BUSINESS CONFIDENTIAL” at the top and bottom of the cover page and each succeeding page, and indicating, via brackets, the specific information that is BCI. Additionally, you must include `Business Confidential' in the `type comment' field. For any submission containing BCI, you must separately submit a non-confidential version, i.e., not as part of the same submission with the confidential version, indicating where BCI has been redacted. USTR will post the non-confidential version in the docket and it will be open to public inspection.

G. Public Viewing of Review Submissions

USTR will make public versions of all documents relating to these reviews available for public viewing pursuant to 15 CFR 2017.4, in the appropriate docket at http://www.regulations.gov upon completion of processing, usually within two weeks of the relevant due date or date of the submission.

Erland Herfindahl,
Deputy Assistant U.S. Trade Representative for the Generalized System of Preferences, Office of the United States Trade Representative.

[FR Doc. 2019-24947 Filed 11-18-19; 8:45 am]

BILLING CODE 3290-F0-P